DEPARTMENT OF HEALTH AND HUMAN SERVICES

National Institutes of Health

National Institute of Diabetes and Digestive and Kidney Diseases; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel; The Autoantigens and Neoantigens Function in the Etiology and Pathophysiology of T1D.

Date: October 22, 2021.

Time: 1:00 p.m. to 5:00 p.m.

Agenda: To review and evaluate grant applications.

Place: National Institute of Diabetes and Digestive and Kidney Diseases, NIH, 6707 Democracy Boulevard, Room 7007, Bethesda, MD 20892 (Video Meeting).

Contact Person: Lan Tian, Ph.D., Review Branch, Division of Extramural Activities, NIDDK, NIH, 6707 Democracy Boulevard, Room 7007, Bethesda, MD 20892, Phone: 301-496-7050, tianl@niddk.nih.gov.

Name of Committee: National Institute of Diabetes and Digestive and Kidney Diseases Special Emphasis Panel; Development of Swallowable Smart Pills/Devices (phased R21/R33).

Date: November 2, 2021.

Time: 11:00 a.m. to 1:30 p.m.

Agenda: To review and evaluate grant applications.

Place: National Institute of Diabetes and Digestive and Kidney Diseases, NIH, 6707 Democracy Boulevard, Room 7007, Bethesda, MD 20892 (Video Meeting).

Contact Person: Lan Tian, Ph.D., Review Branch, Division of Extramural Activities, NIDDK, NIH, 6707 Democracy Boulevard, Room 7007, Bethesda, MD 20892, Phone: 301-496-7050, tianl@niddk.nih.gov.

(Catalogue of Federal Domestic Assistance Program Nos. 93.847, Diabetes, Endocrinology and Metabolic Research; 93.848, Digestive Diseases and Nutrition Research; 93.849, Kidney Diseases, Urology and Hematology Research, National Institutes of Health, HHS)

Dated: August 18, 2021.
Miguelina Perez,
Program Analyst, Office of Federal Advisory Committee Policy.

[FR Doc. 2021-18041 Filed 8-20-21; 8:45 am]

BILLING CODE 4140-01-P